ENVIRONMENTAL PROTECTION AGENCY

[FRL-6708-9]

Regulatory Reinvention (XL) Pilot Projects

AGENCY: Environmental Protection Agency (EPA).

ACTION: Notice of availability of the Project XL Proposed Final Project Agreement: International Business Machines Corporation Copper Metallization Project.

SUMMARY: EPA is requesting comments on a proposed Project XL Final Project Agreement (FPA) for the International Business Machines Corporation, (hereafter “IBM”) semiconductor manufacturing facility in Essex Junction, VT. The FPA is a voluntary agreement developed collaboratively by IBM, the Vermont Department of Environmental Conservation, EPA and interested stakeholders. Project XL, announced in the Federal Register on May 23, 1995 (60 FR 27282), gives regulated entities the flexibility to develop alternative strategies that will replace or modify specific regulatory or procedural requirements on the condition that they produce greater environmental benefits. EPA has set a goal of implementing fifty XL projects undertaken in full partnership with the states.

In the draft FPA, IBM proposes to determine whether the wastewater treatment sludge resulting from a new, innovative copper metallization process should continue to be designated a Resource Conservation and Recovery Act (RCRA) hazardous waste (F006). IBM's innovative copper metallization process is used to create electrical interconnections between device levels for new semiconductor technologies and replaces the Aluminum Chemical Vapor Deposition process used in previous generation semiconductor device technologies. Under current RCRA regulations, sludges or solids created from the treatment of wastewaters which include rinsewaters generated from an electroplating process carry the F006 listing (40 CFR 261.31). This process results in the generation of copper plating rinsewaters, which when introduced to the other process wastewaters generated at the facility, generates sludge that is regulated under RCRA as F006 hazardous waste. EPA currently considers IBM's process a traditional “electroplating” process for purposes of RCRA and therefore subject to its regulations.

It appears that this classification artificially inflates IBM's figures for hazardous waste generation, while at the same time not providing any additional environmental protection, and adding paperwork and reporting requirements. In addition, it appears that the source documents for the F006 listing focused on much different industrial processes than IBM's copper metallization process. Finally, and perhaps most importantly, the chemicals used in IBM's process do not contain the heavy metals or cyanides listed in appendix VII of 40 CFR part 261 which are the focus of the original F006 listing. IBM has also conducted Toxicity Characteristic Leaching Procedure (TCLP) analysis of the rinsewater sludge that demonstrates that the sludge is not hazardous per the RCRA toxicity characteristic requirements (see 40 CFR 261.24).

IBM has proposed that EPA exempt this copper metallization process for semiconductor manufacture from the F006 definition through a site-specific rulemaking and that this be done through the Project XL process. EPA is proposing the site-specific rule for the IBM semiconductor manufacturing facility in Essex Junction, VT in this issue of the Federal Register. Project XL was chosen as the vehicle for this project because IBM is asking EPA to review its entire copper metallization process and not just analyze the resultant wastewater sludge. This novel approach will possibly provide the Agency with a new methodology for evaluating the applicability of its regulations to specific activities. This paradigm shift will allow the Agency appropriate flexibility to ensure that necessary environmental standards continue to be met while providing a means to adapt their regulatory framework to a changing industrial landscape.

DATES: The period for submission of comments ends on July 17, 2000.

ADDRESSEES: All comments on the proposed Final Project Agreement should be sent to: John Moskal, EPA New England, 1 Congress Street (SPP), Boston, MA 02114, or Chad Carbone, U.S. Environmental Protection Agency, Room 1027WT (1802), 1200 Pennsylvania Ave., NW, Washington, DC 20460. Comments may also be faxed to Mr. Moskal (617) 918-1810, or Mr. Carbone (202) 260-1812. Comments may also be received via electronic mail sent to: moskal.john@epa.gov or carbone.chad@epa.gov.

FOR FURTHER INFORMATION CONTACT: To obtain a copy of the proposed Final Project Agreement, Test Plan or Fact Sheet, contact: John Moskal, EPA New England, 1 Congress Street (SPP), Boston, MA 02114 or Chad Carbone, Room 1027WT (1802) U.S. EPA, 1200 Pennsylvania Ave., NW, Washington, DC 20460. The FPA and related documents are also available via the Internet at the following location: http://www.epa.gov/ProjectXL. Questions to EPA regarding the documents can be directed to John Moskal at (617) 918-1826 or Chad Carbone at (202) 260-4296. For information on all other aspects of the XL Program contact Christopher Knopes at the following address: Office of Policy, Economics and Innovation, United States Environmental Protection Agency, 1200 Pennsylvania Ave., NW, Room 1029WT (Mail Code 1802), Washington, DC 20460. Additional information on Project XL, including documents referenced in this notice, other EPA policy documents related to Project XL, regional XL contacts, application information, and descriptions of existing XL projects and proposals, is available via the Internet at http://www.epa.gov/projectxl/inter/page1.htm.

Dated: May 23, 2000.
Elizabeth A. Shaw,
Deputy Associate Administrator,, Office of Policy and Reinvention.

[FR Doc. 00-15155 Filed 6-15-00; 8:45 am]

BILLING CODE 6560-50-P